DEPARTMENT OF LABOR

Mine Safety and Health Administration

Petitions for Modification

The following parties have filed petitions to modify the application of existing safety standards under section 101(c) of the Federal Mine Safety and Health Act of 1977.

1. Six M Coal Company

[Docket No. M-2004-053-C]

Six M Coal Company, 482 High Road, Ashland, Pennsylvania 17921 has filed a petition to modify the application of 30 CFR 75.1400 (Hoisting equipment; general) to its No. 1 Slope Mine (MSHA I.D. No. 36-09138) located in Daupin County, Pennsylvania. The petitioner proposes to use a slope conveyance (gunboat) in transporting persons without installing safety catches or other no less effective devices. The petitioner would instead use increased rope strength and secondary safety rope connections in place of such devices. The petitioner asserts that the proposed alternative method would provide at least the same measure of protection as the existing standard.

2. Consol Pennsylvania Coal Company

[Docket No. M-2005-001-C]

Consol Pennsylvania Coal Company, 1800 Washington Road, Pittsburgh, Pennsylvania 15241 has filed a petition to modify the application of 30 CFR 75.364(b)(2) (Weekly examination) to its Enlow Fork Mine (MSHA I.D. No. 36-07416) located in Greene County, Pennsylvania. The petitioner requests a modification of the existing standard to permit the use of monitoring stations in lieu of walking the complete entries of the return air course. The petitioner proposes to establish three monitoring stations in the affected area of the air course and have a certified person examine the stations on a weekly basis to determine the quantity and quality of air entering and exiting the stations. The petitioner states that the air quality measurements will be made using an MSHA approved hand-held methane and oxygen meter, and the examiner will record their initials, and the date and time of examinations on a date board maintained at each monitoring station, and in a book kept on the surface. The petitioner asserts that the proposed alternative method would provide at least the same measure of protection as the existing standard.

Request for Comments

Persons interested in these petitions are encouraged to submit comments via Federal eRulemaking Portal: http://www.regulations.gov; E-mail: Comments@MSHA.gov; Fax: (202) 693-9441; or Regular Mail/Hand Delivery/Courier: Mine Safety and Health Administration, Office of Standards, Regulations, and Variances, 1100 Wilson Boulevard, Room 2350, Arlington, Virginia 22209. All comments must be postmarked or received in that office on or before February 24, 2005. Copies of these petitions are available for inspection at that address.

Dated at Arlington, Virginia this 18th day of January 2005.
Rebecca J. Smith,
Deputy Director, Office of Standards, Regulations, and Variances.

[FR Doc. 05-1299 Filed 1-24-05; 8:45 am]

BILLING CODE 4510-43-P